DEPARTMENT OF LABOR

Employment and Training Administration

[TA-W-71,482]

Trane a Subsidiary of Ingersoll Rand Including On-Site Leased Workers From Aerotek, Express Personnel Services, Select Staffing, and Industrial Mechanical Contractors, Inc. Pueblo, CO; Amended Certification Regarding Eligibility To Apply for Worker Adjustment Assistance

In accordance with Section 223 of the Trade Act of 1974, as amended (“Act”), 19 U.S.C. 2273, the Department of Labor issued a Certification of Eligibility to Apply for Worker Adjustment Assistance on January 22, 2010, applicable to workers of Trane, a subsidiary of Ingersoll Rand, including on-site leased workers from Aerotek, Express Personnel Staffing, and Select Staffing, Pueblo, Colorado. The notice was published in the Federal Register on March 5, 2010 (75 FR 10320).

At the request of the State Agency, the Department reviewed the certification for workers of the subject firm. The workers are engaged in activities related to the production of air conditioning equipment.

The company reports that workers leased from Industrial Mechanical Contractors, Inc. were employed on-site at the Pueblo, Colorado location of Trane, a subsidiary of Ingersoll Rand. The Department has determined that these workers were sufficiently under the control of the subject firm to be considered leased workers.

Based on these findings, the Department is amending this certification to include workers leased from Industrial Mechanical Contractors, Inc. working on-site at the Pueblo, Colorado location of Trane, a subsidiary of Ingersoll Rand.

The amended notice applicable to TA-W-71,482 is hereby issued as follows:

All workers of Trane, a subsidiary of Ingersoll Rand, including on-site leased workers from Aerotek, Express Personnel Staffing, Select Staffing, and Mechanical Contractors, Inc., Pueblo, Colorado, who became totally or partially separated from employment on or after June 22, 2008, through January 22, 2012, and all workers in the group threatened with total or partial separation from employment on date of certification through two years from the date of certification, are eligible to apply for adjustment assistance under Chapter 2 of Title II of the Trade Act of 1974, as amended.

Signed in Washington, DC, this 6th day of April, 2010.
Michael W. Jaffe,
Certifying Officer, Division of Trade Adjustment Assistance.

[FR Doc. 2010-8891 Filed 4-16-10; 8:45 am]

BILLING CODE 4510-FN-P